COMMISSION ON CIVIL RIGHTS

Notice of Public Meetings of the Pennsylvania Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act that the Pennsylvania Advisory Committee (Committee) to the U.S. Commission on Civil Rights will hold a business meeting on Wednesday October 11, 2023 from 12 p.m.-1 p.m. eastern time. The purpose of the meeting is for the Committee to select the next topic of study.

DATES: Wednesday October 11, 2023 from 12 p.m.-1 p.m. eastern time.

ADDRESSES: Registration (Audio/Visual): https://www.zoomgov.com/j/1614255857?pwd=WUN2Q3VwdDRJZVA5K0RxcUhlMjN3UT09 Telephone (Audio Only): (833) 435-1820 Toll Free; Meeting ID: 161 425 5857.

FOR FURTHER INFORMATION CONTACT: Melissa Wojnaroski, DFO, at mwojnaroski@usccr.gov or (202) 618-4158.

SUPPLEMENTARY INFORMATION: Members of the public may listen to these discussions. Committee meetings are available to the public through the above listed online registration link (audio/visual) or teleconference phone line (audio only). An open comment period will be provided to allow members of the public to make a statement as time allows. Callers can expect to incur regular charges for calls they initiate over wireless lines, according to their wireless plan. The Commission will not refund any incurred charges. Closed captions will be provided. Indivudals with disabilities requiring other accommodations may contact Corrine Sanders at csanders@usccr.gov 10 days prior to the meeting to make their request.

Members of the public are also entitled to submit written comments; the comments must be received in the regional office within 30 days following the meeting. Written comments may be emailed to csanders@usccr.gov. Persons who desire additional information may contact the Regional Programs Unit at (202) 618-4158.

Records generated from this meeting may be inspected and reproduced as they become available, both before and after the meeting. Records of the meeting will be available via www.facadatabase.gov under the Commission on Civil Rights, Pennsylvania Advisory Committee link. Persons interested in the work of this Committee are directed to the Commission's website, http://www.usccr.gov, or may contact the Regional Programs Unit at the above email address.

Agenda

Welcome and Roll Call

Discussion: To discuss and select next topic of study

Public Comment

Adjournment

Exceptional Circumstance: Pursuant to 41 CFR 102-3.150, the notice for this meeting is given fewer than 15 calendar days prior to the meeting because of the exceptional circumstances of report completion timeline.

Dated: September 28, 2023.
David Mussatt,
Supervisory Chief, Regional Programs Unit.

[FR Doc. 2023-21879 Filed 10-2-23; 8:45 am]

BILLING CODE 6335-01-P